ENVIRONMENTAL PROTECTION AGENCY

40 CFR Part 52

[PA155-4114a; FRL-6998-6]

Approval and Promulgation of Air Quality Implementation Plans; Commonwealth of Pennsylvania; Control of Volatile Organic Compounds (VOCs) for Aerospace Operations and Miscellaneous VOC Revisions

AGENCY: Environmental Protection Agency (EPA).

ACTION: Direct final rule.

SUMMARY: EPA is approving revisions to the Commonwealth of Pennsylvania State Implementation Plan (SIP) submitted on March 6, 2000, by the Pennsylvania Department of Environmental Protection (PADEP). These revisions adopt new volatile organic compound (VOC) regulations for the aerospace industry and add new definitions for terms used in regulations containing standards for VOC sources. These revisions also modify the approval process for the use of alternative compliance methods for certain VOC control requirements. EPA is approving these revisions to the Commonwealth of Pennsylvania SIP in accordance with the requirements of the Clean Air Act. (CAA).

DATES: This rule is effective on August 24, 2001, without further notice, unless EPA receives adverse written comment by July 25, 2001. If EPA receives such comments, it will publish a timely withdrawal of the direct final rule in the Federal Register and inform the public that the rule will not take effect.

ADDRESSES: Written comments should be mailed to David L. Arnold, Chief, Air Quality Planning & Information Services Branch, mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460, and the Pennsylvania Department of Environmental Protection, Bureau of Air Quality, P.O. Box 8468, 400 Market Street, Harrisburg, Pennsylvania.

FOR FURTHER INFORMATION CONTACT: Janice Lewis, (215) 814-2185, or Ellen Wentworth, (215) 814-2034, at the EPA Region III address above, or by e-mail at lewis.janice@epa.gov or wentworth.ellen@epa.gov

SUPPLEMENTARY INFORMATION:

I. Description of the SIP Revision and EPA's Action

The information in this section is organized as follows:

A. What Action Is EPA Taking Today?

B. To What Facilities/Operations Do These Revisions Apply?

C. What Are the Provisions of the New and Revised Regulations?

D. Why Is EPA Approving the SIP Revisions?

E. What Is the Process for EPA Approval of This Action?

What Action Is EPA Taking Today?

EPA is approving revisions to the Commonwealth of Pennsylvania SIP which were submitted on March 6, 2000 by PADEP. This SIP revision adds a new section, 129.73, Aerospace Manufacturing and Rework, to 25 PA Code, Chapter 129, Standards For Sources, establishing requirements to control VOC emissions from coatings and solvents used in the aerospace industry. In addition, we are approving revisions to 25 PA Code, Chapter 129, Standards for Sources, section 129.51, General. These revisions remove the requirement that alternative compliance methods for meeting the VOC requirements contained in Chapter 129, sections 129.52, and 129.54-129.73 be submitted to EPA as a SIP revision. The revisions now allow an alternative compliance method to be incorporated into a plan approval or operating permit or both, subject to review by EPA. We are also approving a SIP revision that amends 25 PA Code, Chapter 121, General Provisions, section 121.1, Definitions, to include the addition of the definition of terms used in the substantive sections of Chapter 129.

To What Facilities/Operations Do These Revisions Apply?

The aerospace industry includes all manufacturing facilities that produce an aerospace vehicle or component and all facilities that repair these aerospace products. An aerospace vehicle or component is defined as, but not limited to, any fabricated part, processed part, assembly of parts, or completed unit of any aircraft including, but not limited to airplanes, helicopters, missiles, rockets, and space vehicles. In addition to manufacturing and repair facilities, some shops may specialize in providing a service, such as chemical milling, rather than actually producing a component or assembly. The new regulations are applicable to all sources with the potential to emit 25 tons of VOC per year. If a facility which is involved in the manufacture or rework of aerospace vehicles or components has potential VOC emissions of 25 tons per year or more, it is subject to the requirements of section 129.73. If a facility coats or cleans a variety of products in addition to aerospace products, the operations could be subject to other requirements, including the surface coating limitations in section 129.52. Facilities which are solely involved in aerospace coating operations and have the potential to emit less than the applicability thresholds would not be subject to the aerospace coating limitations.

What Are the Provisions of the New and Revised Regulations?

As mentioned previously, this SIP revision adds a new section 129.73, Aerospace Manufacturing and Rework, to 25 PA Code, Chapter 129, Standards For Sources, which establishes requirements to control VOC emissions from coatings and solvents used in the aerospace industry. Section 129.73(1) defines the exemptions to the cleaning and coating of aerospace components and vehicles. Section 129.73(2) specifies that the exemption for touch-up, aerosol, and Department of Defense (DOT) classified coatings, coatings of space vehicles, and small volume coatings is only from the VOC content limits of the coatings, and not the other provisions of the aerospace regulation. Section 129.73(3) requires that the specific coatings listed in the regulation meet specified allowable VOC limits. All other coatings are subject to the SIP's general coating VOC limits. Section 129.73(4) establishes the methodology for calculating the VOC content of coatings. Section 129.73(5) establishes the application techniques for applying aerospace coatings, and section 129.73(6) establishes exceptions to those coating technique requirements. Section 129.73(7) establishes limitations for hand-wipe cleaning of aerospace vehicles or components, and section 129.73(8) establishes exceptions to the hand-wipe requirements. Sections 129.73(9), (10), and (11) establish requirements for cleaning solvent containers, spray gun cleaning and housekeeping. Section 129.73(12) authorizes compliance through the use of approved air pollution control equipment. Section 129.73(13) establishes the record keeping requirements for aerospace manufacturing and rework facilities.

The SIP revision also revises the VOC equivalency provisions of Chapter 129, Standards for Sources, Chapter 129, section 129.51, General, to authorize compliance with Chapter 129 by the use of an alternative method if that method is incorporated by the Department into an applicable plan approval or operating permit, or both, subject to review by EPA. Specifically, section 129.51(a), Equivalency, and section129.51(a)(3) have been revised to add the new section, 129.73, relating to aerospace manufacturing and rework. The change to 129.51(a)(6) removes the requirement that alternative compliance methods for meeting the VOC requirements contained in sections 129.52, and 129.54-129.73 be submitted to EPA as a SIP revision. The amendment requires, instead, that alternative compliance methods be incorporated into an applicable plan approval or operating permit, or both, subject to EPA review.

The changes to Chapter 121, General Provisions, section 121.1, Definitions, adds definitions of terms used in the substantive provisions of Chapter 129, Pennsylvania's regulations which contain VOC emission standards.

Additional definitions are provided for the following:

Ablative coating

Adhesion promoter

Adhesive bonding primer

Adhesive primer

Aerosol coating

Aerospace coating operation

Aerospace coating unit

Aerospace primer

Aerospace surface preparation

Aerospace topcoat

Aerospace vehicle or component

Aircraft fluid systems

Aircraft transparency

Antichafe coating

Antique aerospace vehicle or component

Aqueous cleaning solvent

Bonding maskant

CARC-chemical agent resistant coating

Chemical milling maskant

Cleaning operation

Cleaning solvent

Closed-cycle depainting system

Commercial exterior aerodynamic structure primer

Commercial interior adhesive

Compatible epoxy primer

Compatible substrate primer

Confined space

Corrosion prevention system

Critical use and line sealer maskant

Cryogenic flexible primer

Cyoprotective coating

Cyanoacrylate adhesive

Electric or radiation-effect coating

Electrostatic discharge and electromagnetic interference (EMI) coating

Elevated temperature skydrol resistant commercial primer

Epoxy polyamide topcoat

Exempt solvent

Fire-resistant (interior) coating

Flexible primer

Flight test coating

Flush cleaning

Fuel tank adhesive

Fuel tank coating

Hand-wipe cleaning operation

High temperature coating

Insulation covering

Intermediate release coating

Lacquer

Limited access space

Metalized epoxy coating

Mold release

Nonstructural adhesive

Operating parameter value

Optical antireflection coating

Part marking coating

Pretreatment coating

Radome

Rain erosion resistant coating

Rocket motor bonding adhesive

Rocket motor nozzle coating

Rubber-based adhesive

Scale inhibitor

Screen print ink

Sealant

Seal coat maskant

Self-priming topcoat

Semiaqueous cleaning solvent

Silicone insulation material

Solids

Solid film lubricant

Space vehicle

Specialty coating

Specialized function coating

Spray gun

Structural autoclavable adhesive

Structural nonautoclavable adhesive

Temporary protective coating

Thermal control coating

Touch-up and repair operation (also known as Aerospace touch-up and repair operation)

Type I chemical etchant

Type I chemical milling maskant

Type II chemical etchant

Type II chemical milling maskant

VOC composite vapor pressure

Waterborn (water-reducible) coating

Wet fastener installation coating

Wing coating

The definition of Miscellaneous metal parts and products has been revised.

Why Is EPA Approving The SIP Revisions?

The addition of section 129.73 to 25 PA Code Chapter 129, Standards for Sources, establishes specific allowable VOC content requirements for aerospace coatings. The CAA requires that SIPS for certain ozone nonattaiment areas be revised to require the implementation of reasonably available control technology (RACT) to control VOC emissions. Section 183(b)(3) of the CAA requires the EPA Administrator to issue a control techniques guideline (CTG ) for the control of VOC emissions from coatings and solvents used in the aerospace industry. EPA is approving Pennsylvania's regulations because they are based upon EPA's CTG for the aerospace industry as well as the applicable Maximum Achievable Control Technologies (MACT) to control hazardous air pollutants. They also appropriately allow Pennsylvania's aerospace manufacturers to utilize coatings specified by the United States Department of Defense (DOD), the United States Department of Transportation (DOT), and the National Aeronautics and Space Administration (NASA).

EPA is also approving the revisions to Chapter 129, Standards for Sources, section 129.51 as described above. The revision requires the alternative compliance method to be incorporated into a plan approval or operating permit, or both, subject to EPA review. This action will streamline the process for establishing alternative compliance methods. EPA is approving this revision because any alternative compliance method would be reviewed by EPA to ensure that it produced results equivalent to the method specified in the regulations, thereby not jeopardizing progress towards attainment of the ozone standard.

EPA is approving the addition of the definitions to Chapter 121, section 121.1, Definitions, because they are terms used in the substantive sections of Chapter 129 and satisfy all applicable federal requirements and policies.

What Is the Process for EPA Approval of This Action?

EPA is publishing this rule without prior proposal because the Agency views this as a noncontroversial amendment and anticipates no adverse comment. However, in the “Proposed Rules” section of today's Federal Register, EPA is publishing a separate document that will serve as the proposal to approve the SIP revision if adverse comments are filed. This rule will be effective on August 24, 2001, without further notice unless EPA receives adverse comment by July 25, 2001. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

II. Final Action

EPA is approving as revisions to the Commonwealth of Pennsylvania SIP the amendments to Chapter 121, General Provisions, section 121.1, Definitions; the revisions to Chapter 129, Standards for Sources, section 129.51, General; and the addition of section 129.73, Aerospace Manufacturing and Rework to Chapter 129 pertaining to VOC control requirements for the aerospace industry. These revisions were submitted by the Commonwealth of Pennsylvania on March 6, 2000.

III. What Are the Administrative Requirements?

A. General Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by August 24, 2001. Filing a petition for reconsideration by the Administrator of this final rule approving revisions to Pennsylvania's volatile organic compounds regulations and the adoption of new regulations for the aerospace industry does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Incorporation by reference, Intergovernmental relations, Ozone, Reporting and recordkeeping requirements.

Dated: May 31, 2001.
Elaine B. Wright,
Acting Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraph (c)(155) to read as follows:

§ 52.2020 Identification of plan.

* * * * *

(c) * * *

(155) Revisions to the Pennsylvania Regulations pertaining to certain VOC regulations submitted on March 6, 2000 by the Pennsylvania Department of Environmental Protection:

(i) Incorporation by reference.

(A) Letter of March 6, 2000 from the Pennsylvania Department of Environmental Protection transmitting the revisions to VOC regulations.

(B) Addition of definitions to 25 PA Code Chapter 121, General Provisions, at section 121.1, Definitions; addition of new section to 25 PA Code, Chapter 129, Standards For Sources, section 129.73, Aerospace manufacturing and rework; and revisions to Chapter 129, Standards For Sources, section 129.51, General. These revisions became effective on April 10, 1999.

(ii) Additional material. Remainder of March 6, 2000 submittal.

[FR Doc. 01-15751 Filed 6-22-01; 8:45 am]

BILLING CODE 6560-50-U